DEPARTMENT OF LABOR

Occupational Safety and Health Administration

[Docket No. ICR-1218-0183(2002)]

4′,4′-Methylenedianiline Standard for Construction (29 CFR 1926.60); Extension of the Office of Management and Budget's (OMB) Approval of Information-Collection (Paperwork) Requirements

AGENCY: Occupational Safety and Health Administration (OSHA) Labor.

ACTION: Request for comments.

SUMMARY: OSHA solicits comments concerning its proposal to increase the existing burden hours estimates for, and to extend OMB approval of, the information-collection requirements of the 4′,4′-Methylenedianiline (MDA) Standard Construction (29 CFR 1926.60).¹ This standard protects employees from the adverse health effects that may result from occupational exposure to MDA, including cancer, and liver and skin disease.

¹ Based on its assessment of the paperwork requirements contained in this standard, the Agency estimates that the total burden hours increased compared to its previous burden-hour estimate. Under this notice, OSHA is not proposing to revise these paperwork requirements in any substantive manner, only to increase the burden hours imposed by the existing paperwork requirements.

DATES: Submit written comments on or before February 4, 2002.

ADDRESSES: Submit written comments to the Docket Office, Docket No. ICR-1218-0183(2002), OSHA, U.S. Department of Labor, Room N-2625, 200 Constitution Avenue, NW., Washington, DC 20210; telephone (202) 693-2350. Commenters may transmit written comments of 10 pages or less in length by facsimile to (202) 693-1648.

FOR FURTHER INFORMATION CONTACT: Todd R. Owen, Directorate of Policy, OSHA, U.S. Department of Labor, Room N-3641, 200 Constitution Avenue, NW., Washington, DC 20210; telephone (202) 693-2444. A copy of the Agency's Information-Collection Request (ICR) supporting the need for the information collections specified in the standard is available for inspection and copying in the Docket Office, or by requesting a copy from Todd Owen at (202) 693-2444. For electronic copies of the ICR contact OSHA on the Internet at http://www.osha.gov/comp-links.html, and select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and cost) is minimal, collection instruments are clearly understandable, and OSHA's estimate of the information-collection burden is correct. The Occupational Safety and Health Act of 1970 (the “Act”) authorizes information collection by employers as necessary or appropriate for enforcement of the Act or for developing information regarding the causes and prevention of occupational injuries, illnesses, and accidents (29 U.S.C. 657).

The information-collection requirements specified in the 4′,4′-Methylenedianiline Standard for Construction (the “MDA Standard”) protect employees from the adverse health effects that may result from their exposure to MDA, including cancer, and liver and skin disease. The major paperwork requirements specify that employers must perform initial, periodic, and additional exposure monitoring; within 15 days after receiving exposure-monitoring results, notify each employee in writing of their results; and routinely inspect the hands, face, and forearms of each employees potentially exposed to MDA for signs of dermal exposure to MDA. Employers must also: Establish a written compliance program; institute a respiratory-protective program in accordance with 29 CFR 1910.134 (OSHA's Respiratory Protection Standard); and develop a written emergency plan for any construction operation that could have an emergency (i.e., an unexpected and potentially hazard release of MDA).

Employers are to label any material or products containing MDA, including containers used to store MDA-contaminated protective clothing and equipment. They also must inform personnel who launder MDA-contaminated clothing of the requirement to prevent release of MDA, while personnel who launder or clean MDA-contaminated protective clothing or equipment must receive information about the potentially harmful effects of MDA. In addition, employers are to post warning signs at entrances or accessways to regulated areas, as well as train employees exposed to MDA at the time of their initial assignment, and at least annually thereafter.

Other paperwork provisions of the MDA Standard require employers to provide employees with medical examinations, including initial, periodic, emergency and follow-up examinations. As part of the medical-surveillance program, employers must ensure that the examining physician receives specific written information, and that they obtain from the physician a written opinion regarding the employee's medical results and exposure limitations.

The MDA Standard also specifies that employers are to establish and maintain exposure-monitoring and medical-surveillance records for each employee who is subject to these respective requirements, make any required record available to OSHA compliance officers and the National Institute for Occupational Safety and Health (NIOSH) for examination and copying, and provide exposure-monitoring and medical-surveillance records to employees and their designated representatives. Finally, employers who cease to do business within the period specified for retaining exposure-monitoring and medical-surveillance records, and who have no successor employer, must notify NIOSH at least 90 days before disposing of the records and transmit the records to NIOSH if so requested.

II. Special Issues for Comment

OSHA has a particular interest in comments on the following issues:

• Whether the information-collection requirements are necessary for the proper performance of the Agency's functions, including whether the information is useful;

• The accuracy of OSHA's estimate of the burden (time and costs) of the information-collection requirements, including the validity of the methodology and assumptions used;

• The quality, utility, and clarity of the information collected; and

• Ways to minimize the burden on employers who must comply; for example, by using automated or other technological information-collection and -transmission techniques.

III. Proposed Actions

OSHA is proposing to increase the existing burden-hour estimate for, and to extend OMB approval of, the collection-of-information requirements specified by the MDA Standard. The Agency proposes to increase the total burden-hour estimate from 1,523 hours to 1,609 hours, an increase of 86 hours. The additional burden hours result in large part from an increase in the number of employers who develop and maintain objective data, or historical monitoring data, for exempted operations. Also, capital costs rose from $74,000 to $80,400 because the cost of analyzing an exposure-monitoring sample increased from $90 to $100, while the cost of administering a medical examination rose from $130 to $150. OSHA will summarize the comments submitted in response to this notice, and will include this summary in its request to OMB to extend the approval of this information-collection requirements.

Type of Review: Extension of currently approved information-collection requirements.

Title: MDA Standard for Construction (29 CFR 1926.60).

OMB Number: 1218-0183.

Affected Public: Business or other for-profit; Federal government, State, local, and tribal governments.

Number of Respondents: 66.

Frequency of Recordkeeping: On occasion; semi-annually; annually.

Average Time per Response: Varies from five minutes to provide information to the examining physician to two hours of perform exposure monitoring.

Estimated Total Burden Hours: 1,609.

Estimated Cost (Operation and Maintenance): $80,400.

IV. Authority and Signature

John L. Henshaw, Assistant Secretary of Labor for Occupational Safety and Health, directed the preparation of this notice. The authority for this notice is the Paperwork Reduction Act of 1995 (44 U.S.C. 3506) and Secretary of Labor's Order No. 3-2000 (62 FR 50017).

Signed at Washington, DC, on November 29, 2001.
John L. Henshaw,
Assistant Secretary of Labor.

[FR Doc. 01-30008 Filed 12-3-01; 8:45 am]

BILLING CODE 4510-26-M